MERIT SYSTEMS PROTECTION BOARD

Information Quality Guidelines

AGENCY: Merit Systems Protection Board.

ACTION: Notice.

SUMMARY: The Merit Systems Protection Board (MSPB or the Board) announces that its draft information Quality Guidelines have been posted on the MSPB Web site. The Board invites public comments on its draft Guidelines and will consider the comments received in developing its final Guidelines.

DATES: Comments are due on or before June 10, 2002. Final Guidelines are to be published by October 1, 2002.

ADDRESSES: Submit comments to the Office of the Clerk of the Board, Merit Systems Protection Board, 1615 M Street, NW, Washington, DC 20419. Comments may be submitted by e-mail to mspb@mspb.gov or by facsimile to (202) 653-7130.

FOR FURTHER INFORMATION CONTACT: Shannon McCarthy, Acting Clerk of the Board, 1615 M Street, NW., Washington, DC 20419; telephone (202) 653-7200; facsimile (202) 653-7130; e-mail to mspb@mspb.gov.

SUPPLEMENTARY INFORMATION: Section 515 of the Treasury & General Government Appropriations Act for FY 2001 (Public Law No. 106-554) requires each Federal agency to publish guidelines for ensuring and maximizing the quality, objectivity, utility, and integrity of the information it disseminates to the public. Agency guidelines must be based on government-wide guidelines issued by the Office of Management and Budget (OMB). In compliance with this statutory requirement and OMB instructions, the MSPB has posted its draft Information Quality Guidelines on the MSPB Web site (www.mspb.gov) under “What's new.” The Guidelines describe the agency's procedures for ensuring the quality of information that it disseminates to the public and the procedures by which an affected person may obtain correction of information disseminated by the MSPB that does not comply with the Guidelines. The Board invites public comments on its draft Guidelines and will consider the comments received in developing its proposed final Guidelines, which must be submitted to OMB for review by July 1, 2002. The agency's final Guidelines must be published by October 1, 2002. Persons who cannot access the draft Guidelines through the Internet may request a paper or electronic copy by contacting the Office of the Clerk of the Board.

Dated: April 25, 2002.
Shannon McCarthy,
Acting Clerk of the Board.

[FR Doc. 02-10666 Filed 4-30-02; 8:45 am]

BILLING CODE 7400-01-M